DEPARTMENT OF AGRICULTURE

Agricultural Marketing Service

[Docket No. DA-07-04]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for report forms under the Federal milk marketing order program.

DATES: Comments on this notice must be received by June 4, 2007 to be assured of consideration.

ADDRESSES: Interested persons are invited to submit written comments on the Internet at http://www.regulations.gov or to the Office of the Deputy Administrator, Dairy Programs, AMS, USDA, 1400 Independence Avenue, SW., Room 2968 South, Stop 0225, Washington, DC 20250-0225. Comments should make reference to the date and page number of this issue of the Federal Register. All comments will be made available for public inspection in the above office during regular business hours.

FOR FURTHER INFORMATION CONTACT: Contact William F. Newell, Chief, Order Operations Branch, Dairy Programs, (202) 690-2375, FAX: (202) 720-2454.

SUPPLEMENTARY INFORMATION: Title: Report Forms Under Federal Milk Orders (From Milk Handlers and Milk Marketing Cooperatives).

OMB Number: 0581-0032.

Expiration Date of Approval: September 30, 2007.

Type of Request: Extension and revision of a currently approved information collection.

Abstract: Federal milk marketing order regulations authorized under the Agricultural Marketing Agreement Act of 1937, as amended (7 U.S.C. 601-674), require milk handlers to report in detail the receipts and utilization of milk and milk products handled at each of their plants that are regulated by a Federal order. The data are needed to administer the classified pricing system and related requirements of each Federal order.

A Federal milk marketing order (hereinafter, Order) is a regulation issued by the Secretary of Agriculture that places certain requirements on the handling of milk in the area it covers. Each Order is established under the authority of the Act. The Order requires that handlers of milk for a marketing area pay not less than certain minimum class prices according to how the milk is used. These prices are established under each Order after a public hearing at which evidence is received on the supply and demand conditions for milk in the market. An Order requires that payments for milk be pooled and paid to individual farmers or cooperative associations of farmers on the basis of a uniform or average price. Thus, all eligible farmers (producers) share in the market wide use-values of milk by regulated handlers.

Milk Orders help ensure adequate supplies of milk and dairy products for consumers and adequate returns to producers.

The Orders also provide for the public dissemination of market statistics and other information for the benefit of producers, handlers, and consumers.

Formal rulemaking amendments to the Orders must be approved in referenda conducted by the Secretary.

During 2006, 52,725 dairy farmers delivered over 120 billion pounds of milk to handlers regulated under the milk orders. This volume represents 67 percent of all milk marketed in the U.S. and 68 percent of the milk of bottling quality (Grade A) sold in the country. The value of this milk delivered to Federal milk order handlers at minimum order blend prices was nearly $16.0 billion. Producer deliveries of milk used in Class I products (mainly fluid milk products) totaled 45 billion pounds—38 percent of total producer deliveries. More than 239 million Americans reside in Federal milk order marketing areas—80 percent of the total U.S. population.

Each Order is administered by a market administrator who is an agent of the Secretary of Agriculture. The market administrator is authorized to levy assessments on regulated handlers to carry out the market administrator's duties and responsibilities under the Orders. Additional duties of the market administrators are to prescribe reports required of each handler, to assure that handlers properly account for milk and milk products, and to assure that such handlers pay producers and associations of producers according to the provisions of the Order. The market administrator employs a staff that verifies handlers' reports by examining records to determine that the required payments are made to producers. Most reports required from handlers are submitted monthly to the market administrator.

The forms used by the market administrators are required by the respective Orders that are authorized by the Act. The forms are used to establish: The quantity of milk received by handlers, the pooling status of the handler, the class-use of the milk used by the handler, and the butterfat content and amounts of other components of the milk.

The forms covered under this information collection require the minimum information necessary to effectively carry out the requirements of the Orders, and their use is necessary to fulfill the intent of the Act as expressed in the Orders and in the rules and regulations issued under the Orders.

The information collected is used only by authorized employees of the market administrator and authorized representatives of the USDA, including AMS Dairy Programs' headquarters staff.

Estimate of Burden: Public reporting burden for this collection of information is estimated to average 1.07 hours per response.

Respondents: Milk handlers and milk marketing cooperatives.

Estimated Number of Respondents: 740.

Estimated Number of Responses: 20,565.

Estimated Number of Responses per Respondent: 28.

Estimated Total Annual Burden on Respondents: 21,818 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: March 29, 2007.
Lloyd C. Day,
Administrator, Agricultural Marketing Service.

[FR Doc. E7-6248 Filed 4-3-07; 8:45 am]

BILLING CODE 3410-02-P